DEPARTMENT OF LABOR

Employment and Training Administration

[TA-W-38, 811 and TA-W-38, 811b]

Universal Furniture Limited, Morristown, and Universal Furniture Limited Corporate Office, High Point, NC; Amended Certification Regarding Eligibility To Apply for Worker Adjustment Assistance

In accordance with Section 223 of the Trade Act of 1974 (19 U.S.C. 2273) the Department of Labor issued a Certification of Eligibility to Apply for Worker Adjustment Assistance on April 30, 2001, applicable to workers of Universal Furniture Limited, Morristown, Tennessee. The notice was published in the Federal Register on May 18, 2001 (66 FR 27690).

At the request of the company, the Department reviewed the certification for workers of the subject firm. The workers were engaged in the production of bedroom and dining room furniture.

Information shows that worker separations occurred at the Corporate Office, High Point, North Carolina location of the subject firm. The workers provide administrative support functions and purchasing for the subject firm's production facilities including Morristown, Tennessee.

Accordingly, the Department is amending the certification to included workers of the Universal Furniture Limited, Corporate Office, High Point, North Carolina.

The intent of the Department's certification is to include all workers of Universal Furniture Limited adversely affect by increased imports.

The amended notice applicable to TA-W-38,811 is hereby issued as follows:

All workers of Universal Furniture Limited, Morristown, Tennessee (TA-W-38, 811) and Universal Furniture Limited, Corporate Office, High Point, North Carolina (TA-W-38, 811B) who became totally or partially separated from employment on or after March 10, 2000, through April 30, 2003, are eligible to apply for adjustment assistance under Section 223 of the Trade Act of 1974.

Signed at Washington, DC this 5th day of March, 2002.
Linda G. Poole,
Certifying Officer, Division of Trade Adjustment Assistance.

[FR Doc. 02-6665 Filed 3-19-02; 8:45 am]

BILLING CODE 9510-30-M